DEPARTMENT OF COMMERCE

National Oceanic and Atmospheric Administration

[I.D. 072902F]

Marine Mammals; File No. 1245

AGENCY: National Marine Fisheries Service (NMFS), National Oceanic and Atmospheric Administration (NOAA), Commerce.

ACTION: Receipt of application for amendment.

SUMMARY: Notice is hereby given that J. David Whitaker; South Carolina Department of Natural Resources; P.O. Box 12559; Charleston, South Carolina 29422-2559, has requested an amendment to scientific research Permit No. 1245.

DATES: Written or telefaxed comments must be received on or before September 5, 2002.

ADDRESSES: The amendment request and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Lillian Becker or Ruth Johnson, (301)713-2289.

SUPPLEMENTARY INFORMATION: The subject amendment to Permit No. 1245, issued on May 19, 2000 (65 FR 36666) is requested under the authority of Endangered Species Act of 1973, as amended (16 U.S.C. 1531 et seq.).

Permit No. 1245 authorizes the permit holder to capture, handle, flipper and PIT tag, blood and tissue sample, perform ultrasound, and release 250 loggerhead, 50 Kemp's ridley, 10 green and 1 leatherback turtle. The permit holder requests authorization to extend the permit for two more years, until October 31, 2005, and increase the take of loggerheads to 300 and leatherbacks to 3 due to the increasing numbers of turtles encountered.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 30, 2002.
Eugene T. Nitta,
Acting Chief, Permits, Conservation and Education Division, Office of Protected Resources, National Marine Fisheries Service.

[FR Doc. 02-19819 Filed 8-5-02; 8:45 am]

BILLING CODE 3510-22-S